COMMITTEE FOR PURCHASE FROM PEOPLE WHO ARE BLIND OR SEVERELY DISABLED

Procurement List; Proposed Addition and Deletions

AGENCY: Committee for Purchase From People Who Are Blind or Severely Disabled.

ACTION: Proposed Addition to and Deletions from the Procurement List.

SUMMARY: The Committee is proposing to add a service to the Procurement List that will be provided by a nonprofit agency employing persons who are blind or have other severe disabilities, and deletes services previously provided by such agencies.

DATES: Comments Must Be Received On Or Before: 10/14/2013.

ADDRESSES: Committee for Purchase From People Who Are Blind or Severely Disabled, 1401 S. Clark Street, Suite 10800, Arlington, Virginia 22202-4149.

For Further Information Or to Submit Comments Contact: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Addition

If the Committee approves the proposed addition, the entity of the Federal Government identified in this notice will be required to provide the service listed below from the nonprofit agency employing persons who are blind or have other severe disabilities.

The following service is proposed for addition to the Procurement List for production by the nonprofit agency listed:

Service

Service Type/Location: Custodial Service, GSA, PBS, Region 2, Department of State/Passport Office, Minillas North Tower, 9th Floor, De Diego Ave. Parada 22, Santurce, PR.

NPA: The Corporate Source, Inc., New York, NY.

Contracting Activity: GSA/Public Buildings Service, Hato Rey, PR.

Deletions

The following services are proposed for deletion from the Procurement List:

Services

Service Type/Location: Janitorial/Custodial Service, Frank T. Bow Federal Building, 201 Cleveland Avenue SE., Canton, OH.

NPA: The Workshops, Inc., Canton, OH.

Contracting Activity: GSA/Public Buildings Service, Property Management Service Center, Chicago, IL.

Service Type/Location: Janitorial/Custodial Service, Gamelin USARC, 10 Asylum Road, Bristol, RI.

NPA: Road to Responsibility, Inc., Marshfield, MA.

Contracting Activity: Dept. of the Army, W6QM MICC-FT DIX (RC-E), FT DIX, NJ.

Barry S. Lineback,
Director, Business Operations.

[FR Doc. 2013-22290 Filed 9-12-13; 8:45 am]

BILLING CODE 6353-01-P